FEDERAL COMMUNICATIONS COMMISSION

47 CFR Part 73

[DA 07-4470; MB Docket No. 07-130; RM-11372]

Radio Broadcasting Services; Silverton, CO

AGENCY: Federal Communications Commission.

ACTION: Final rule.

SUMMARY: At the request of Laramie Mountain Broadcasting, LLC, Channel 281A is allotted at Silverton, Colorado, as the community's second local aural transmission service. Channel 281A is allotted at Silverton, Colorado, without a site restriction at coordinates 37-48-43 NL and 107-39-50 WL.

DATES: Effective December 17, 2007.

ADDRESSES: Secretary, Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 07-130, adopted October 31, 2007, and released November 2, 2007. The Notice of Proposed Rule Making proposed the allotment of Channel 281A at Silverton, Colorado. See 72 FR 42016, published August 1, 2007. The full text of this Commission decision is available for inspection and copying during normal business hours in the FCC's Reference Information Center at Portals II, CY-A257, 445 Twelfth Street, SW., Washington, DC 20554. This document may also be purchased from the Commission's copy contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Colorado is amended by adding Silverton, Channel 281A.

Federal Communications Commission.
John A. Karousos,
Assistant Chief, Audio Division, Media Bureau.

[FR Doc. E7-23299 Filed 11-29-07; 8:45 am]

BILLING CODE 6712-01-P